CONSUMER PRODUCT SAFETY COMMISSION

16 CFR Parts 1109 and 1500

[Docket No. CPSC-2011-0081]

Amendment To Clarify When Component Part Testing Can Be Used and Which Textile Products Have Been Determined Not To Exceed the Allowable Lead Content Limits; Notice of Reopening of Comment Period

AGENCY: U.S. Consumer Product Safety Commission.

ACTION: Notice of proposed rulemaking; reopening of comment period.

SUMMARY: The Consumer Product Safety Commission (“Commission” or “CPSC”) published a direct final rule (“DFR”) and notice of proposed rulemaking (“NPR”) in the same issue of the Federal Register on October 14, 2015, clarifying when component part testing can be used and clarifying which textile products have been determined not to exceed the allowable lead content limits. The DFR and the NPR invited the public to submit written comments by November 13, 2015. In response to a request for an extension, the Commission is reopening the comment period on the NPR to December 14, 2015.

DATES: The comment period for the notice of proposed rulemaking published on October 14, 2015 (80 FR 61773), is reopened. Submit comments by December 14, 2015.

ADDRESSES: You may submit comments, identified by Docket No. CPSC-2011-0081, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier, preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2011-0081 into the “Search” box and follow the prompts.

FOR FURTHER INFORMATION CONTACT: Kristina Hatlelid, Ph.D., M.P.H., Directorate for Health Sciences, U.S. Consumer Product Safety Commission, 5 Research Place, Rockville, MD 20850; (301) 987-2558; email; khatlelid@cpsc.gov.

SUPPLEMENTARY INFORMATION: On October 14, 2015, the Commission published a DFR and an NPR in the Federal Register, clarifying when component part testing can be used and clarifying which textile products have been determined not to exceed the allowable lead content limits. (DFR, 80 FR 61729 and NPR, 80 FR 61773). The American Apparel and Footwear Association (“AAFA”) has requested an extension of the comment period for 30 days because AAFA-member companies are currently reviewing the Commission's proposed amendment to the rule and need additional time to submit comments.

The Commission has considered the request and is reopening the comment period for an additional 30 days. Because the 30-day extension date falls on a Sunday, the comment period will close on December 14, 2015. The Commission believes that this extension allows adequate time for interested persons to submit comments on the proposed rule, without significantly delaying the rulemaking.

Alberta E. Mills,
Acting Secretary, Consumer Product Safety Commission.

[FR Doc. 2015-29504 Filed 11-18-15; 8:45 am]

BILLING CODE 6355-01-P